DEPARTMENT OF THE INTERIOR

National Park Service

[2253-665]

Notice of Inventory Completion: Fowler Museum at UCLA, Los Angeles, CA

AGENCY: National Park Service, Interior.

ACTION: Notice.

SUMMARY: The Fowler Museum at UCLA has completed an inventory of human remains, in consultation with the appropriate Indian tribes, and has determined that there is a cultural affiliation between the human remains and present-day Indian tribes. Representatives of any Indian tribe that believes itself to be culturally affiliated with the human remains may contact the Fowler Museum at UCLA. Repatriation of the human remains to the Indian tribes stated below may occur if no additional claimants come forward.

DATES: Representatives of any Indian tribe that believes it has a cultural affiliation with the human remains should contact the Fowler Museum at UCLA at the address below by September 7, 2011.

ADDRESSES: Wendy G. Teeter, Ph.D., Curator of Archaeology, Fowler Museum at UCLA, Box 951549, Los Angeles, CA 90095-1549, telephone (310) 825-1864.

SUPPLEMENTARY INFORMATION: Notice is here given in accordance with the Native American Graves Protection and Repatriation Act (NAGPRA), 25 U.S.C. 3003, of the completion of an inventory of human remains in the possession of the Fowler Museum at UCLA, Los Angeles, CA. The human remains were removed from Maricopa County, AZ.

This notice is published as part of the National Park Service's administrative responsibilities under NAGPRA, 25 U.S.C. 3003(d)(3). The determinations in this notice are the sole responsibility of the museum, institution, or Federal agency that has control of the cultural items. The National Park Service is not responsible for the determinations in this notice.

Consultation

A detailed assessment of the human remains was made by the Fowler Museum at UCLA professional staff in consultation with representatives of the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico. The Salt River Pima-Maricopa Indian Community of the Salt River Reservation, Arizona, has submitted a repatriation claim for the individual described in this notice, on behalf of itself and the Ak Chin Indian Community of the Maricopa (Ak Chin) Indian Reservation, Arizona; Gila River Indian Community of the Gila River Indian Reservation, Arizona; and Tohono O'odham Nation of Arizona (hereinafter referred to as “The Four Southern Tribes of Arizona”).

History and Description of the Remains

In 1940, a human remain representing a minimum of one individual was removed from the Van Liere Ranch Site, in Maricopa County, AZ, during excavations by J.W. Simmons. The collection was donated to the Fowler Museum at UCLA by Thomas Hinton in 1956. The human remain is an infant's tooth that was found in the collection. No known individual was identified. No associated funerary objects are present.

The Van Liere Ranch site was a burial ground with numerous Hohokam cremations and other features. This site is dated from A.D. 300-1500 based on the cultural materials found at the site, which are identified by archeologists and cultural experts as consistent with Hohokam culture. There are burial records that describe the excavation of each burial and include field and artifact photos, drawings, and site maps. Except for this individual, the human remains were not removed from the ground. Based on museum documentation and information during consultation, it is reasonable to believe this individual is Native American and of Hohokam ancestry.

The Four Southern Tribes of Arizona assert a “close relationship of shared group identity that can be traced both historically and prehistorically between the Four Southern Tribes of Arizona and the people that inhabited the south central Arizona and the northern region of present day Mexico from time immemorial.” Therefore, The Four Southern Tribes of Arizona claim cultural affiliation to this individual based on geographical, archeological, linguistic, oral tradition, and historical evidence.

The Hopi Tribe “claims cultural and ancestral affiliation to all human remains, associated and unassociated funerary objects, sacred objects, and objects of cultural patrimony that were collected from Paleo-Indian, Archaic, Basketmaker, Hisatsinom (Anasazi), Mogollon, Hohokam, Sinaguan, Fremont, Mimbres, and Salado, prehistoric and historic cultures of the Southwest.”

Based on, “Zuni oral teachings and tradition, ethnohistoric documentation, historic documentation, archaeological documentation, and other evidence, the Zuni Tribe claims cultural affiliation with prehistoric cultures of the Southwestern United States that include, and are known as, Paleo Indian, Archaic, Basketmaker, Puebloan, Freemont, Anasazi, Mogollon (including Mimbres and Jornada), Hohokam, Sinagua, Western Pueblo, and Salado.”

Therefore, the oral tradition, kinship system, and archeology all indicate that The Four Southern Tribes of Arizona, Hopi Tribe of Arizona, and the Zuni Tribe of the Zuni Reservation, New Mexico, identify with the archeological Hohokam tradition. Finally, multiple lines of evidence, including treaties, Acts of Congress, and Executive Orders, indicate that the land from which the Native American human remain was removed is the aboriginal land of The Four Southern Tribes of Arizona, Hopi Tribe of Arizona, and the Zuni Tribe of the Zuni Reservation, New Mexico.

Determinations Made by the Fowler Museum at UCLA

Officials of the Fowler Museum at UCLA have determined that:

• Pursuant to 25 U.S.C. 3001(9), the human remain described in this notice represent the physical remains of one individual of Native American ancestry.

• Pursuant to 25 U.S.C. 3001(2), there is a relationship of shared group identity that can be reasonably traced between the Native American human remain and The Four Southern Tribes of Arizona, Hopi Tribe of Arizona, and the Zuni Tribe of the Zuni Reservation, New Mexico.

Additional Requestors and Disposition

Representatives of any other Indian tribe that believes itself to be culturally affiliated with the human remain should contact Wendy G. Teeter, Ph.D., Curator of Archaeology, Fowler Museum at UCLA, Box 951549, Los Angeles, CA 90095-1549, telephone (310) 825-1864, before September 7, 2011. Repatriation of the human remain to the Salt River Pima-Maricopa Indian Community of the Salt River Reservation, Arizona, on behalf of The Four Southern Tribes of Arizona, may proceed after that date if no additional claimants come forward.

The Fowler Museum at UCLA is responsible for notifying The Four Southern Tribes of Arizona, Hopi Tribe of Arizona, and the Zuni Tribe of the Zuni Reservation, New Mexico, that this notice has been published.

Dated: August 2, 2011.
Sherry Hutt,
Manager, National NAGPRA Program.

[FR Doc. 2011-19988 Filed 8-5-11; 8:45 am]

BILLING CODE 4310-50-P